DEPARTMENT OF AGRICULTURE

Animal and Plant Health Inspection Service

[Docket No. 97-093-9]

Scrapie Eradication Uniform Methods and Rules; Reopening and Extension of Comment Period

AGENCY: Animal and Plant Health Inspection Service, USDA.

ACTION: Notice.

SUMMARY: We are reopening and extending the comment period for a notice seeking public comments on the draft Scrapie Eradication Uniform Methods and Rules. This action will allow interested persons additional time to prepare and submit comments.

DATES: We invite you to comment on the draft Scrapie Eradication Uniform Methods and Rules. We will consider all comments on Docket 97-093-7 that we receive by September 20, 2001.

ADDRESSES: Please send four copies of your comment (an original and three copies) to: Docket No. 97-093-7, Regulatory Analysis and Development, PPD, APHIS, Suite 3C03, 4700 River Road Unit 118, Riverdale, MD 20737-1238. Please state that your comment refers to Docket No. 97-093-7.

You may read any comments that we receive on Docket No. 97-093-7 in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

You may request a copy of the draft Scrapie Eradication Uniform Methods and Rules by writing to the person listed under FOR FURTHER INFORMATION CONTACT. The document is also available on the Internet at http://www.aphis.usda.gov/vs/scrapie, and we may post revised versions to this website for additional comment in the future.

FOR FURTHER INFORMATION CONTACT: Dr. Diane Sutton, National Scrapie Program Coordinator, National Animal Health Programs Staff, VS, APHIS, 4700 River Road Unit 43, Riverdale, MD 20737-1231; (301) 734-6954.

SUPPLEMENTARY INFORMATION: Scrapie is a degenerative and eventually fatal disease affecting the central nervous systems of sheep and goats. To control the spread of scrapie within the United States, the Animal and Plant Health Inspection Service (APHIS), U.S. Department of Agriculture, administers regulations at 9 CFR part 79 that restrict the interstate movement of certain sheep and goats. APHIS also has regulations at 9 CFR part 54 that describe a voluntary scrapie control program.

On April 20, 2001, we published a notice in the Federal Register (66 FR 20231, Docket No. 97-093-7) soliciting comments on the draft Scrapie Eradication Uniform Methods and Rules (UM&R). The UM&R is a set of proposed cooperative procedures and standards to aid in the control and eradication of scrapie. The legal requirements for interstate movement of sheep and goats due to scrapie are contained in title 9 of the Code of Federal Regulations. The Scrapie Eradication UM&R provides guidance to the States regarding the minimum standards necessary for a State to participate in the national eradication program.

Comments on the UM&R were originally required to be received on or before June 19, 2001. On June 27, 2001, we published a notice in the Federal Register (66 FR 34143, Docket No. 97-093-8) reopening and extending the comment period until August 20, 2001. We are reopening and extending the comment period on Docket No. 97-093-7 again, until September 20, 2001. This action will allow interested persons additional time to prepare and submit comments.

Comments received before September 20, 2001, will be reviewed and considered before another draft is put out for review by States, industry, and the public. APHIS will continue to accept comments on the UM&R on an ongoing basis and will open it for revision at least annually, as indicated in the introduction to the UM&R. Additional input may be provided directly to the national scrapie program coordinator at any time, at the address given above under “For Further Information Contact:”.

Authority: 21 U.S.C. 111-113, 114, 114a, 115, 117, 120, 121, 123-126, and 134a-134h; 7 CFR 2.22, 2.80, and 371.4.

Done in Washington, DC, this 24th day of August 2001.
Craig A. Reed,
Administrator, Animal and Plant Health Inspection Service.

[FR Doc. 01-21927 Filed 8-29-01; 8:45 am]

BILLING CODE 3410-34-U